FEDERAL ELECTION COMMISSION

Sunshine Act Meeting

AGENCY: Federal Election Commission.

Previously Announced Date and Time: Thursday, November 9, 2000, 10 a.m., meeting open to the public.

This meeting was cancelled.

Date & Time: Tuesday, November 14, 2000 at 10 a.m.

Place: 999 E Street, NW., Washington, DC.

Status: This meeting will be closed to the public.

Items to be discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date & Time: Thursday, November 16, 2000 at 10 a.m.

Place: 999 E Street, NW., Washington, DC (Ninth Floor).

Status: This meeting will be open to the public.

Items to be discussed: Correction and Approval of Minutes.

Draft Advisory Opinion 2000-24: Alaska Democratic Party by counsel, Neil Reiff.

Final Rules and Explanation and Justification on General Public Political Communications Coordinated with Candidates, and Independent Expenditures.

Administrative Matters.

Person to contact for information: Mr. Ron Harris, Press Officer, Telephone: (202) 694-1220.

Mary W. Dove,
Acting Secretary of the Commission.

[FR Doc. 00-28841 Filed 11-6-00; 2:47 pm]

BILLING CODE 6715-01-M